DEPARTMENT OF TRANSPORTATION

Federal Aviation Administration

14 CFR Part 97

[Docket No. 31051; Amdt. No. 3673]

Standard Instrument Approach Procedures, and Takeoff Minimums and Obstacle Departure Procedures; Miscellaneous Amendments

AGENCY: Federal Aviation Administration (FAA), DOT.

ACTION: Final rule.

SUMMARY: This rule establishes, amends, suspends, or removes Standard Instrument Approach Procedures (SIAPs) and associated Takeoff Minimums and Obstacle Departure Procedures (ODPs) for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective January 26, 2016. The compliance date for each SIAP, associated Takeoff Minimums, and ODP is specified in the amendatory provisions.

The incorporation by reference of certain publications listed in the regulations is approved by the Director of the Federal Register as of January 26, 2016.

ADDRESSES: Availability of matters incorporated by reference in the amendment is as follows:

For Examination

1. U.S. Department of Transportation, Docket Ops&ndash;M30, 1200 New Jersey Avenue SE., West Bldg., Ground Floor, Washington, DC, 20590-0001.

2. The FAA Air Traffic Organization Service Area in which the affected airport is located;

3. The office of Aeronautical Navigation Products, 6500 South MacArthur Blvd., Oklahoma City, OK 73169 or,

4. The National Archives and Records Administration (NARA). For information on the availability of this material at NARA, call 202-741-6030, or go to: http://www.archives.gov/federal_register/code_of_federal_regulations/ibr_locations.html.

Availability

All SIAPs and Takeoff Minimums and ODPs are available online free of charge. Visit the National Flight Data Center at nfdc.faa.gov to register. Additionally, individual SIAP and Takeoff Minimums and ODP copies may be obtained from the FAA Air Traffic Organization Service Area in which the affected airport is located.

FOR FURTHER INFORMATION CONTACT: Richard A. Dunham III, Flight Procedure Standards Branch (AFS-420), Flight Technologies and Programs Divisions, Flight Standards Service, Federal Aviation Administration, Mike Monroney Aeronautical Center, 6500 South acArthur Blvd. Oklahoma City, OK. 73169 (Mail Address: P.O. Box 25082, Oklahoma City, OK 73125) Telephone: (405) 954-4164.

This rule amends Title 14 of the Code of Federal Regulations, Part 97 (14 CFR part 97), by establishing, amending, suspending, or removes SIAPS, Takeoff Minimums and/or ODPS. The complete regulatory description of each SIAP and its associated Takeoff Minimums or ODP for an identified airport is listed on FAA form documents which are incorporated by reference in this amendment under 5 U.S.C. 552(a), 1 CFR part 51, and 14 CFR part § 97.20. The applicable FAA forms are FAA Forms 8260-3, 8260-4, 8260-5, 8260-15A, and 8260-15B when required by an entry on 8260-15A.

The large number of SIAPs, Takeoff Minimums and ODPs, their complex nature, and the need for a special format make publication in the Federal Register expensive and impractical. Further, airmen do not use the regulatory text of the SIAPs, Takeoff Minimums or ODPs, but instead refer to their graphic depiction on charts printed by publishers of aeronautical materials. Thus, the advantages of incorporation by reference are realized and publication of the complete description of each SIAP, Takeoff Minimums and ODP listed on FAA form documents is unnecessary. This amendment provides the affected CFRs and specifies the types of SIAPs, Takeoff Minimums and ODPs with their applicable effective dates. This amendment also identifies the airport and its location, the procedure, and the amendment number.

Availability and Summary of Material Incorporated by Reference

The material incorporated by reference is publicly available as listed in the ADDRESSES section.

The material incorporated by reference describes SIAPS, Takeoff Minimums and/or ODPS as identified in the amendatory language for part 97 of this final rule.

The Rule

This amendment to 14 CFR part 97 is effective upon publication of each separate SIAP, Takeoff Minimums and ODP as Amended in the transmittal. Some SIAP and Takeoff Minimums and textual ODP amendments may have been issued previously by the FAA in a Flight Data Center (FDC) Notice to Airmen (NOTAM) as an emergency action of immediate flight safety relating directly to published aeronautical charts.

The circumstances that created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure under 5 U.S.C. 553(b) are impracticable and contrary to the public interest and, where applicable, under 5 U.S.C 553(d), good cause exists for making some SIAPs effective in less than 30 days.

The FAA has determined that this regulation only involves an established body of technical regulations for which frequent and routine amendments are necessary to keep them operationally current. It, therefore—(1) Is not a “significant regulatory action” under Executive Order 12866;(2) is not a “significant rule” under DOT Regulatory Policies and Procedures (44 FR 11034; February 26, 1979); and (3)does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, Navigation (air).

Issued in Washington, DC on December 4, 2015.
John Duncan,
Director, Flight Standards Service.

Adoption of the Amendment

Accordingly, pursuant to the authority delegated to me, Title 14, Code of Federal Regulations, Part 97 (14 CFR part 97) is amended by establishing, amending, suspending, or removing Standard Instrument Approach Procedures and/or Takeoff Minimums and Obstacle Departure Procedures effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

Effective January 26, 2016

Compliance Date 7 January 2016

Paso Robles, CA, Paso Robles Muni, RNAV (GPS) RWY 31, Orig

Oxford, CT, Waterbury-Oxford, RNAV (GPS) RWY 18, Amdt 2

Plymouth, IN, Plymouth Muni, RNAV (GPS) RWY 10, Orig

Plymouth, IN, Plymouth Muni, RNAV (GPS) RWY 28, Orig

Detroit, MI, Willow Run, ILS OR LOC RWY 23L, Amdt 8

Detroit, MI, Willow Run, RNAV (GPS) RWY 23L, Amdt 2

Lynchburg, VA, Falwell, RNAV (GPS) RWY 28, Orig-B

Effective 4 February 2016

Dillingham, AK, Dillingham, VOR/DME RWY 19, Amdt 7C, CANCELED

Middleton Island, AK, Middleton Island, VOR/DME RWY 20, Amdt 6B, CANCELED

Talladega, AL, Talladega Muni, VOR/DME RWY 4, Amdt 6A, CANCELED

Lake Village, AR, Lake Village Muni, VOR/DME-B, Amdt 6B, CANCELED

Marshall, AR, Searcy County, RNAV (GPS) RWY 5, Orig

Marshall, AR, Searcy County, RNAV (GPS) RWY 23, Orig

Marshall, AR, Searcy County, Takeoff Minimums and Obstacle DP, Orig

Walnut Ridge, AR, Walnut Ridge Rgnl, VOR-A, Amdt 16A, CANCELED

Santa Ynez, CA, Santa Ynez, Takeoff Minimums and Obstacle DP, Amdt 2

Denver, CO, Denver Intl, RNAV (GPS) Y RWY 8, Amdt 1B

Denver, CO, Denver Intl, RNAV (RNP) Z RWY 8, Orig-B

Apalachicola, FL, Apalachicola Rgnl-Cleve Randolph Field, NDB RWY 32, Amdt 2B, CANCELED

Fort Pierce, FL, St Lucie County Intl, NDB-A, Orig-D, CANCELED

Augusta, GA, Augusta Rgnl at Bush Field, VOR/DME RWY 17, Amdt 4A, CANCELED

Olney-Noble, IL, Olney-Noble, VOR/DME-A, Amdt 9A, CANCELED

Urbana, IL, Frasca Field, VOR/DME OR GPS-B, Amdt 6A, CANCELED

Anderson, IN, Anderson Muni-Darlington Field, VOR-A, Amdt 9A, CANCELED

Northampton, MA, Northampton, VOR-A, Amdt 5, CANCELED

Provincetown, MA, Provincetown Muni, ILS OR LOC RWY 7, Amdt 9

Provincetown, MA, Provincetown Muni, RNAV (GPS) RWY 7, Amdt 1

Baltimore, MD, Baltimore/Washington Intl Thurgood Marshall, ILS OR LOC RWY 15L, Amdt 4 Baltimore, MD, Baltimore/Washington Intl Thurgood Marshall, ILS OR LOC RWY 28, Amdt 17

Baltimore, MD, Baltimore/Washington Intl Thurgood Marshall, ILS OR LOC RWY 33R, Amdt 3

Baltimore, MD, Baltimore/Washington Intl Thurgood Marshall, RNAV (GPS) RWY 33R, Amdt 4

Baltimore, MD, Baltimore/Washington Intl Thurgood Marshall, RNAV (GPS) Y RWY 28, Amdt 2

Baltimore, MD, Baltimore/Washington Intl Thurgood Marshall, RNAV (RNP) Z RWY 28, Amdt 1

Baltimore, MD, Baltimore/Washington Intl Thurgood Marshall, VOR RWY 28, Amdt 24, CANCELED

Presque Isle, ME, Northern Maine Regional Arpt At Presque Is, VOR/DME RWY 1, Amdt 12B, CANCELED

Gaylord, MI, Gaylord Rgnl, VOR RWY 9, Amdt 2A, CANCELED

Grand Rapids, MI, Gerald R. Ford Intl, VOR RWY 35, Amdt 1A, CANCELED

Muskegon, MI, Muskegon County, VOR-A, Amdt 21, CANCELED

Natchez, MS, Hardy-Anders Field Natchez-Adams County, VOR/DME RWY 13, Amdt 3, CANCELED

Beaufort, NC, Michael J Smith Field, RNAV (GPS) RWY 26, Amdt 3

Erwin, NC, Harnett Rgnl Jetport, VOR/DME RWY 5, Amdt 2B, CANCELED

Myrtle Beach, SC, Myrtle Beach Intl, ILS OR LOC RWY 18, Amdt 4

Myrtle Beach, SC, Myrtle Beach Intl, ILS OR LOC RWY 36, Amdt 4

Myrtle Beach, SC, Myrtle Beach Intl, RNAV (GPS) RWY 18, Amdt 4

Myrtle Beach, SC, Myrtle Beach Intl, RNAV (GPS) RWY 36, Amdt 4

Myrtle Beach, SC, Myrtle Beach Intl, RNAV (GPS)-A, Amdt 1

Port Angeles, WA, William R Fairchild Intl, ILS OR LOC RWY 8, Amdt 3

Port Angeles, WA, William R Fairchild Intl, RNAV (GPS) RWY 8, Amdt 1

Port Angeles, WA, William R Fairchild Intl, RNAV (GPS) RWY 26, Amdt 1

[FR Doc. 2016-00880 Filed 1-25-16; 8:45 am]

BILLING CODE 4910-13-P